DEPARTMENT OF TRANSPORTATION

Federal Aviation Administration

14 CFR Part 39

[Docket No. FAA-2015-8463; Directorate Identifier 2014-NM-226-AD]

RIN 2120-AA64

Airworthiness Directives; Airbus Airplanes

AGENCY: Federal Aviation Administration (FAA), DOT.

ACTION: Notice of proposed rulemaking (NPRM).

SUMMARY: We propose to supersede Airworthiness Directive (AD) 2013-20-11, for all Airbus Model A318, A319, A320, and A321 series airplanes. AD 2013-20-11 currently requires modifying the passenger emergency oxygen container assembly. Since we issued AD 2013-20-11, we have determined that the unsafe condition also affects oxygen containers labeled “DAe Systems.” This proposed AD would expand the affected group of oxygen containers to include those labeled “DAe Systems.” We are proposing this AD to prevent a high temperature oxygen generator and mask from falling down and possibly resulting in an ignition source in the passenger compartment, injury to passengers, and reduced availability of supplemental oxygen.

DATES: We must receive comments on this proposed AD by March 7, 2016.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For Airbus service information identified in this proposed AD, contact Airbus, Airworthiness Office—EIAS, 1 Rond Point Maurice Bellonte, 31707 Blagnac Cedex, France; telephone: +33 5 61 93 36 96; fax: +33 5 61 93 44 51; email: account.airworth-eas@airbus.com; Internet http://www.airbus.com.

For B/E Aerospace service information identified in this proposed AD, contact Dieter Heins, Customer Support Manager, Oxygen & PSU Systems, B/E Aerospace Systems, GmbH Revalstr. 1, D-23560 Lübeck; telephone: +49 (0)451 4093 2976; fax: +49 (0)451 4093 4488; email: dieter_heins@beaerospace-systems.com.

You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2015-8463; or in person at the Docket Management Facility between 9 a.m. and 5 p.m., Monday through Friday, except Federal holidays. The AD docket contains this proposed AD, the regulatory evaluation, any comments received, and other information. The street address for the Docket Operations office (telephone: 800-647-5527) is in the ADDRESSES section. Comments will be available in the AD docket shortly after receipt.

FOR FURTHER INFORMATION CONTACT: Sanjay Ralhan, Aerospace Engineer, International Branch, ANM-116, Transport Airplane Directorate, FAA, 1601 Lind Avenue SW., Renton, WA 98057-3356; telephone: 425-227-1405; fax: 425-227-1149.

SUPPLEMENTARY INFORMATION:

Comments Invited

We invite you to send any written relevant data, views, or arguments about this proposed AD. Send your comments to an address listed under the ADDRESSES section. Include “Docket No. FAA-2015-8463; Directorate Identifier 2014-NM-226-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On September 17, 2013, we issued AD 2013-20-11, Amendment 39-17617 (78 FR 64162, October 28, 2013). AD 2013-20-11 requires modifying the passenger emergency oxygen container assembly on all Model A318, A319, A320, and A321 series airplanes.

Since we issued AD 2013-20-11, Amendment 39-17617 (78 FR 64162, October 28, 2013), we have determined that the unsafe condition also affects oxygen containers labeled “DAe Systems.”

The European Aviation Safety Agency (EASA), which is the Technical Agent for the Member States of the European Union, has issued EASA AD 2014-0207, dated September 16, 2014 (referred to after this as the Mandatory Continuing Airworthiness Information, or “the MCAI”), to correct an unsafe condition. The MCAI states:

It was determined that oxygen generators, installed on a specific batch of Type 1 (22 min) passenger emergency oxygen container assemblies, may become detached by extreme pulling of the mask tube at the end of oxygen supply. Investigations revealed that such detachment can be caused by the increase in temperature towards the end of the generator operation, which may weaken the plastic housing in the attachment area of the bracket.

This condition, if not corrected, could make the rivets slip through the plastic housing, causing a `hot' oxygen generator and mask to fall down, possibly resulting in injury to passengers.

To address this potential unsafe condition, EASA issued AD 2012-0055 (later revised) [http://ad.easa.europa.eu/blob/easa_ad_2012_0055_R1_superseded.pdf/AD_2012-0055R1_1] [which corresponds to FAA AD 2013-20-11, Amendment 39-17617 (78 FR 64162, October 28, 2013)] to require modification of the affected oxygen container assemblies. That [EASA] AD also prohibited installation of unmodified containers on any aeroplane as replacement parts.

Since that [EASA] AD was issued, it was found that the affected containers have not only been marked with company name B/E Aerospace, as was specified, but also, for a brief period, with the former company name DAe Systems.

For the reason described above, this [EASA] AD retains the requirements of EASA AD 2012-0055R1, which is superseded, and expands the affected group of containers to include those that have the name “DAe Systems” on the identification plate.

This [EASA] AD also clearly separates the serial number (s/n) groups of containers into those manufactured by B/E Aerospace and those manufactured by DAe Systems, for which additional compliance time is provided.

You may examine the MCAI in the AD docket on the Internet at http://www.regulations.gov by searching for and locating Docket No. FAA-2015-8463.

Related Service Information Under 1 CFR Part 51

Airbus has issued the following service information. This service information describes procedures for installation of a reinforcement plate in the oxygen container assembly.

• Airbus Service Bulletin A320-35-1049, dated June 15, 2011.

• Airbus Service Bulletin A320-35-1053, dated June 15, 2011.

• Airbus Service Bulletin A320-35-1054, dated June 15, 2011.

• Airbus Service Bulletin A320-35-1055, dated June 15, 2011.

• Airbus Service Bulletin A320-35-1056, dated June 15, 2011.

• Airbus Service Bulletin A320-35-1057, dated June 15, 2011.

• Airbus Service Bulletin A320-35-1058, dated June 15, 2011.

This service information is reasonably available because the interested parties have access to it through their normal course of business or by the means identified in the ADDRESSES section.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of these same type designs.

Costs of Compliance

We estimate that this proposed AD affects 4 airplanes of U.S. registry.

The actions required by AD 2013-20-11, Amendment 39-17617 (78 FR 64162, October 28, 2013), and retained in this proposed AD take about 2 work-hours per product, at an average labor rate of $85 per work-hour. Based on these figures, the estimated cost of the actions that are required by AD 2013-20-11 is $170 per product.

We also estimate that it would take about 2 work-hours per product to comply with the basic requirements of this proposed AD. The average labor rate is $85 per work-hour. Based on these figures, we estimate the cost of this proposed AD on U.S. operators to be $680, or $170 per product.

According to the manufacturer, some of the costs of this proposed AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2013-20-11, Amendment 39-17617 (78 FR 64162, October 28, 2013), and adding the following new AD:

Airbus: Docket No. FAA-2015-8463; Directorate Identifier 2014-NM-226-AD.

(a) Comments Due Date

We must receive comments by March 7, 2016.

(b) Affected ADs

This AD replaces AD 2013-20-11, Amendment 39-17617 (78 FR 64162, October 28, 2013).

(c) Applicability

This AD applies to the Airbus airplanes, certificated in any category, specified in paragraphs (c)(1) through (c)(4) of this AD, all manufacturer serial numbers.

(1) Airbus Model A318-111, -112, -121, and -122 airplanes.

(2) Airbus Model A319-111, -112, -113, -114, -115, -131, -132, and -133 airplanes.

(3) Airbus Model A320-211, -212, -214, -231, -232, and -233 airplanes.

(4) Airbus Model A321-111, -112, -131, -211, -212, -213, -231, and -232 airplanes.

(d) Subject

Air Transport Association (ATA) of America Code 35, Oxygen.

(e) Reason

This AD was prompted by a determination that oxygen generators installed on a certain batch of passenger emergency oxygen container assemblies might become detached by extreme pulling of the mask tube at the end of the oxygen supply causing a high temperature oxygen generator and mask to fall down. This AD was also prompted by a determination that the unsafe condition affects oxygen containers labeled “DAe Systems.” We are issuing this AD to prevent a high temperature oxygen generator and mask from falling down and possibly resulting in an ignition source in the passenger compartment, injury to passengers, and reduced availability of supplemental oxygen.

(f) Compliance

Comply with this AD within the compliance times specified, unless already done.

(g) Retained Oxygen Container Assembly Modification, With Service Information Referenced in a New Paragraph

This paragraph restates the requirements of paragraph (g) of AD 2013-20-11, Amendment 39-17617 (78 FR 64162, October 28, 2013), with service information referenced in a new paragraph. Except as specified in paragraphs (g)(1), (g)(2), and (g)(3) of this AD, within 5,000 flight cycles, or 7,500 flight hours, or 24 months, whichever occurs first, after December 2, 2013 (the effective date of AD 2013-20-11): Modify each type 1 (22 minute) passenger emergency oxygen container assembly installed on an airplane, having a part number (P/N) listed in paragraph (g)(1)(i) of this AD and a serial number (S/N) listed in paragraph (g)(1)(ii) of this AD, in accordance with the Accomplishment Instructions of the applicable Airbus service information specified in paragraphs (k)(1) through (k)(7) of this AD.

(1) An oxygen container that has a part number listed in paragraph (g)(1)(i) of this AD and a serial number as listed in paragraph (g)(1)(ii) of this AD, and that has been modified using the instructions of B/E Aerospace Service Bulletin 1XC22-0100-35-006, is compliant with the modification requirement of paragraph (g) of this AD.

(i) Oxygen container part numbers listed in paragraphs (g)(1)(i)(A) through (g)(1)(i)(D) of this AD, where xxxxx stands for an alphanumerical value.

(A) 13C22Lxxxxx0100.

(B) 13C22Rxxxxx0100.

(C) 14C22Lxxxxx0100.

(D) 14C22Rxxxxx0100.

(ii) Oxygen container serial numbers listed in paragraphs (g)(1)(ii)(A) through (g)(1)(ii)(H) of this AD.

(A) ARBC-0182 to ARBC-9999, inclusive.

(B) ARBD-0000 to ARBD-9999, inclusive.

(C) ARBE-0000 to ARBE-9999, inclusive.

(D) BEBF-0000 to BEBF-9999, inclusive.

(E) BEBH-0000 to BEBH-9999, inclusive.

(F) BEBK-0000 to BEBK-9999, inclusive.

(G) BEBL-0000 to BEBL-9999, inclusive.

(H) BEBM-0000 to BEBM-0454, inclusive.

(2) Airplanes on which Airbus Modification 150704 has not been embodied in production are excluded from the requirements of paragraph (g) of this AD, unless an oxygen container with a part number listed in paragraph (g)(1)(i) of this AD and a serial number listed in paragraph (g)(1)(ii) of this AD is installed.

(3) Airplanes on which Airbus Modification 150704 has been embodied in production and that are not listed by model and manufacturer serial number in the applicable Airbus service information specified in paragraphs (k)(1) through (k)(7) of this AD; are excluded from the requirements of paragraph (g) of this AD, unless an oxygen container with a part number listed in paragraph (g)(1)(i) of this AD and a serial number listed in paragraph (g)(1)(ii) of this AD is installed.

Note 1 to paragraph (g) of this AD: The oxygen container assemblies listed in paragraph (g)(1)(i) of this AD and paragraph (g)(1)(ii) of this AD are B/E Aerospace products with the mark “B/E AEROSPACE” on the identification plate.

(h) Retained Parts Installation Limitation, With Service Information Referenced in a New Paragraph

This paragraph restates the requirements of paragraph (h) of AD 2013-20-11, Amendment 39-17617 (78 FR 64162, October 28, 2013), with service information referenced in a new paragraph. As of December 2, 2013 (the effective date of AD 2013-20-11), no person may install, on any airplane, an oxygen container with a part number listed in paragraph (g)(1)(i) of this AD, and serial number listed in paragraph (g)(1)(ii) of this AD, unless the oxygen container has been modified according to the applicable Airbus service information specified in paragraphs (k)(1) through (k)(7) of this AD.

(i) New Requirement of This AD: Modification of Additional Oxygen Containers

At the applicable times specified in paragraphs (i)(1) and (i)(2) of this AD: Modify each type 1 (22 minute) passenger emergency oxygen container assembly installed on an airplane, having a part number and a serial number listed in paragraph (j) of this AD, in accordance with the Accomplishment Instructions of the applicable Airbus service information specified in paragraphs (k)(1) through (k)(7) of this AD; except as specified in paragraph (l) of this AD.

(1) For units with “B/E AEROSPACE” on the identification plate and having a part number and a serial number listed in paragraph (j)(1) of this AD: Within 5,000 flight cycles, or 7,500 flight hours, or 24 months, whichever occurs first after the effective date of this AD.

(2) For units with “DAe Systems” on the identification plate and having a part number and a serial number listed in paragraph (j)(2) of this AD: Within 2,500 flight cycles, or 3,750 flight hours, or 12 months, whichever occurs first after the effective date of this AD.

(j) New Part Numbers and Serial Numbers for the Parts Affected by Paragraph (i) of This AD

Affected parts for the actions required by paragraph (i) of this AD are identified in paragraphs (j)(1) and (j)(2) of this AD.

(1) For oxygen containers with “B/E AEROSPACE” on the identification plate: Units having a part number identified in paragraphs (j)(1)(i) through (j)(1)(iv) of this AD, where part number “xxxxx” stands for any alphanumerical value, and a serial number of BEBM-0455 to BEBM-9999, inclusive.

(i) 13C22Lxxxxx0100.

(ii) 13C22Rxxxxx0100.

(iii) 14C22Lxxxxx0100.

(iv) 14C22Rxxxxx0100.

(2) For oxygen containers with “DAe Systems” on the identification plate: Units having a part number identified in paragraphs (j)(1)(i) through (j)(1)(iv) of this AD, where part number “xxxxx” stands for any alphanumerical value, and a serial number identified in paragraphs (j)(2)(i) through (j)(2)(iv) of this AD.

(i) ARBC-0000 to ARBC-9999 inclusive.

(ii) ARBD-0000 to ARBD-9999 inclusive.

(iii) ARBE-0000 to BEBE-9999 inclusive.

(iv) BEBE-0000 to BEBE-9999 inclusive.

(k) New Service Information Paragraph for the Requirements of Paragraphs (g), (h), (i), and (m) of This AD

Accomplish the requirements specified in paragraphs (g), (h), (i), and (m) of this AD in accordance with the Accomplishment Instructions of the applicable Airbus service information identified in paragraphs (k)(1) through (k)(7) of this AD.

(1) Airbus Service Bulletin A320-35-1049, dated June 15, 2011.

(2) Airbus Service Bulletin A320-35-1053, dated June 15, 2011.

(3) Airbus Service Bulletin A320-35-1054, dated June 15, 2011.

(4) Airbus Service Bulletin A320-35-1055, dated June 15, 2011.

(5) Airbus Service Bulletin A320-35-1056, dated June 15, 2011.

(6) Airbus Service Bulletin A320-35-1057, dated June 15, 2011.

(7) Airbus Service Bulletin A320-35-1058, dated June 15, 2011.

(l) New Exceptions to the Requirements of Paragraph (i) of This AD

(1) An oxygen container that has a part number and a serial number listed in paragraph (j) of this AD, and that has been modified as specified in B/E Aerospace Service Bulletin 1XC22-0100-35-006, is compliant with the modification requirement of paragraph (i) of this AD.

(2) Airplanes on which Airbus Modification 150704 has not been embodied in production are excluded from the requirements of paragraph (i) of this AD, unless an oxygen container with a part number and a serial number listed in paragraph (j) of this AD is installed.

(3) Airplanes on which Airbus Modification 150704 has been embodied in production and that are not listed by model and manufacturer serial number in the Airbus service information specified in paragraphs (k)(1) through (k)(7) of this AD, as applicable, are excluded from the requirements of paragraph (i) of this AD, unless an oxygen container with a part and a serial number listed in paragraph (j) of this AD is installed.

(4) Airplanes on which the design of the passenger oxygen container is not Design A, as defined in figure 1 to paragraph (l)(4) of this AD, are excluded from the requirements of paragraph (i) of this AD for that passenger oxygen container.

Note 2 to paragraph (l)(4) of this AD: For “Design A,” the placard on the passenger oxygen container test button is as described in “Picture A” in figure 1 to paragraph (l)(4) of this AD. The mask configuration (“ZZ” in “Picture A”) is a number, and the test button is as shown in “Picture B.”

(m) New Requirement of This AD: Parts Installation Limitation

As of the effective date of this AD, no person may install, on any airplane, an oxygen container with a part number and a serial number listed in paragraph (j) of this AD, unless the oxygen container has been modified in accordance with the Accomplishment Instructions of the applicable Airbus service information specified in paragraphs (k)(1) through (k)(7) of this AD.

(n) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, WA 98057-3356; telephone: (425) 227-1405; fax: (425) 227-1149. Information may be emailed to: 9-ANM-116-AMOC-REQUESTS@faa.gov.

(i) Before using any approved AMOC, notify your appropriate principal inspector, or lacking a principal inspector, the manager of the local flight standards district office/certificate holding district office. The AMOC approval letter must specifically reference this AD.

(ii) AMOCs approved previously for AD 2013-20-11, Amendment 39-17617 (78 FR 64162, October 28, 2013), are approved as AMOCs for the corresponding provisions of paragraphs (g) and (h) of this AD.

(2) Contacting the Manufacturer: As of the effective date of this AD, for any requirement in this AD to obtain corrective actions from a manufacturer, the action must be accomplished using a method approved by the Manager, International Branch, ANM-116, Transport Airplane Directorate, FAA; or the European Aviation Safety Agency (EASA); or Airbus's EASA Design Organization Approval (DOA). If approved by the DOA, the approval must include the DOA-authorized signature.

(o) Related Information

(1) Refer to Mandatory Continuing Airworthiness Information (MCAI) EASA AD 2014-0207, dated September 16, 2014, for related information. This MCAI may be found in the AD docket on the Internet at http://www.regulations.gov by searching for and locating Docket No. FAA-2015-8463.

(2) For Airbus service information identified in this AD, contact Airbus, Airworthiness Office—EIAS, 1 Rond Point Maurice Bellonte, 31707 Blagnac Cedex, France; telephone: +33 5 61 93 36 96; fax: +33 5 61 93 44 51; email: account.airworth-eas@airbus.com; Internet http://www.airbus.com.

(3) For B/E Aerospace service information identified in this AD, contact Dieter Heins, Customer Support Manager, Oxygen & PSU Systems, B/E Aerospace Systems, GmbH Revalstr. 1, D-23560 Lübeck; telephone: +49 (0)451 4093 2976; fax: +49 (0)451 4093 4488; email: dieter_heins@beaerospace-systems.com.

(4) You may view this service information at the FAA, Transport Airplane Directorate, 1601 Lind Avenue SW., Renton, WA. For information on the availability of this material at the FAA, call 425-227-1221.

Issued in Renton, Washington, on January 5, 2016.
Victor Wicklund,
Acting Manager, Transport Airplane Directorate, Aircraft Certification Service.

[FR Doc. 2016-00697 Filed 1-19-16; 8:45 am]

BILLING CODE 4910-13-P